DEPARTMENT OF AGRICULTURE

Commodity Credit Corporation

7 CFR Part 1412

Agriculture Risk Coverage, Price Loss Coverage, and Cotton Transition Assistance Programs

CFR Correction

In Title 7 of the Code of Federal Regulations, Parts 1200 to 1599, revised as of January 1, 2015, on page 516, in § 1412.45, in paragraph (b)(3), the term “P&CP” is replaced with the term “planted”.

[FR Doc. 2015-18072 Filed 7-22-15; 8:45 am]

BILLING CODE 1505-01-D